DEPARTMENT OF COMMERCE

National Oceanic and Atmospheric Administration

[RTID 0648-XF077]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) will convene an in-person meeting to review 2025 groundfish stock assessments. The full SSC will convene an advance virtual meeting to review the recommendations of the SSC Groundfish Subcommittee for a subset of 2025 groundfish stock assessments, in addition to those reviewed during the September Pacific Council meeting. Both the full SSC and the SSC Groundfish Subcommittee meetings are open to the public with a web broadcast that provides the opportunity for remote listening and public comment.

DATES: The SSC Groundfish Subcommittee's meeting will be held Tuesday, August 12, 2025, from 8 a.m. Pacific Time until business for the day is completed, and reconvenes Wednesday, August 13, 2025, from 8 a.m. Pacific Time until business for the day has been completed. The SSC meeting will be held Wednesday, September 3, 2025, from 1 p.m. Pacific Time until 5 p.m. or until business for the day is completed.

ADDRESSES: The SSC Groundfish Subcommittee meeting will be held at the University of Washington, School of Aquatic and Fishery Sciences (SAFS) Room 203, 1122 NE Boat Street, Seattle, WA 98195; telephone: (206) 543-4270.

The full SSC meeting will be held virtually with an opportunity for remote public comment.

Specific meeting information, materials, and instructions for how to connect to these meetings remotely will be provided in the meeting announcement on the Pacific Council's website (see www.pcouncil.org). In the event an outage occurs, or technical issues arise that impact the experience of remote attendees, we will attempt to resolve them but ultimately, we cannot guarantee that they will be resolved satisfactorily.

Please send an email to Kris Kleinschmidt (kris.kleinschmidt@pcouncil.org) or contact via phone at (503) 820-2412 for technical assistance.

Council address: Pacific Fishery Management Council, 7700 NE Ambassador Place, Suite 101, P.O. 97220.

FOR FURTHER INFORMATION CONTACT: Marlene A. Bellman, Staff Officer, Pacific Council; telephone: (503) 820-2414; marlene.bellman@pcouncil.org.

SUPPLEMENTARY INFORMATION: The SSC's Groundfish Subcommittee will review full benchmark assessments and stock assessment review (STAR) reports for yellowtail rockfish in the area North of 40°10′ N latitude, quillback rockfish off California, chilipepper rockfish, rougheye/blackspotted rockfish, and sablefish. They will also review two update stock assessments for yelloweye rockfish and widow rockfish. Lastly, catch-only projections for petrale sole, canary rockfish, shortspine thornyhead, darkblotched rockfish, black rockfish off Oregon, and bocaccio will be reviewed. The SSC Groundfish Subcommittee will prepare their recommendations for the SSC and Pacific Council consideration at their meetings in September.

During the online meeting September 3, 2025, the SSC will review 2025 full benchmark assessments and stock assessment review (STAR) reports for yellowtail rockfish in the area North of 40°10′ N latitude, quillback rockfish off California, and chilipepper rockfish. The remainder of the 2025 full and update stock assessments and catch-only projections will be reviewed by the SSC at the September 2025 Council meeting in Spokane, WA.

Assessment recommendations may include endorsing these new stock assessments for management use or requesting further analyses to be reviewed at the late September Supplemental Review panel (this process is outlined in the Pacific Council's Terms of Reference for the Groundfish Stock Assessment Review Process for 2025-2026 which can be found at https://www.pcouncil.org/documents/2024/06/terms-of-reference-for-the-groundfish-stock-assessment-review-process-for-2025-2026-june-2024.pdf/).

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Kris Kleinschmidt kris.kleinschmidt@pcouncil.org (503) 820-2412 at least 10 days prior to the meeting date.

Authority: 16 U.S.C. 1801 et seq.

Dated: July 22, 2025.
Rey Israel Marquez,
Acting Deputy Director, Office of Sustainable Fisheries, National Marine Fisheries Service.

[FR Doc. 2025-14044 Filed 7-24-25; 8:45 am]

BILLING CODE 3510-22-P